Title 3—

The President

Presidential Determination No. 2017-15 of September 30, 2017

Presidential Determination With Respect to the Efforts of Foreign Governments Regarding Trafficking in Persons

Memorandum for the Secretary of State

Consistent with section 110 of the Trafficking Victims Protection Act of 2000 (22 U.S.C. 7107) (the “Act”), as amended, I hereby determine as follows:

Section 1. As provided for in section 110(d)(1)(A)(i) of the Act, I determine that the United States will not provide nonhumanitarian, nontrade-related assistance to the governments of the Democratic Republic of the Congo (DRC), Equatorial Guinea, Iran, South Sudan, Sudan, and Venezuela during Fiscal Year (FY) 2018, except that such assistance may be provided to such a government if, in a report to the Congress under section 110(b) of the Act, the Secretary of State determines that the government complies with the Act's minimum standards or has made significant efforts to bring itself into compliance with the Act.

Sec. 2. As provided in section 110(d)(1)(A)(ii) of the Act, I determine that the United States will not provide nonhumanitarian, nontrade-related assistance to, or allow funding for participation in educational and cultural exchange programs by officials or employees of, the governments of Eritrea, Democratic People's Republic of Korea, Russia, and Syria for FY 2018, except that such assistance may be provided to, or such funding may be allowed for officials of, such a government if, in a report to the Congress under section 110(b) of the Act, the Secretary of State determines that the government complies with the Act's minimum standards or has made significant efforts to bring itself into compliance with the Act.

Sec. 3.. As provided in section 110(d)(1)(B) of the Act, I hereby instruct the United States Executive Director of each multilateral development bank, as defined in the Act, and of the International Monetary Fund to vote against and use best efforts to deny all loans to, and all other uses of those institutions' funds that benefit, the governments of Iran, the Democratic People's Republic of Korea, and Russia for FY 2018. Notwithstanding the foregoing, the Executive Directors may vote to allow loans to be made, and the institutions' funds to be used for, humanitarian assistance; trade-related assistance; and development assistance that directly addresses basic human needs, is not administered by the government of such country, and confers no benefit to such a government. They may also vote to allow loans to be made to, and the institutions' funds to be used to benefit, any such government that complies with the minimum standards of the Act or makes significant efforts to bring itself into compliance with the Act.

Sec. 4. Consistent with section 110(d)(4) of the Act, I determine that a partial waiver of the Act with respect to the DRC and South Sudan to allow assistance described in section 110(d)(1)(A)(i) of the Act—with exception for Foreign Military Financing (FMF), Foreign Military Sales (FMS), International Military Education and Training (IMET), and Excess Defense Articles (EDA)—would promote the purposes of the Act or is otherwise in the national interest of the United States.

Sec. 5. Consistent with section 110(d)(4) of the Act, I determine that a partial waiver of the Act with respect to Equatorial Guinea to allow assistance described in section 110(d)(1)(A)(i) of the Act for programs to promote sustainable natural resource management and biodiversity and programs to advance energy access, support regional training to combat infectious diseases, and participation in the Young African Leaders Initiative would promote the purposes of the Act or is otherwise in the national interest of the United States.

Sec. 6. Consistent with section 110(d)(4) of the Act, I determine that a partial waiver of the Act with respect to Sudan to allow assistance described in section 110(d)(1)(A)(i) of the Act—with exception for FMF, FMS, IMET, and EDA—would promote the purposes of the Act or is otherwise in the national interest of the United States.

Sec. 7. Consistent with section 110(d)(4) of the Act, I determine that a partial waiver of the Act with respect to Venezuela to allow assistance described in section 110(d)(1)(A)(i) of the Act for health programs, programs designed to strengthen the democratic process in Venezuela, and for government officials and employees to participate in foreign assistance-funded programs related to democracy and the rule of law would promote the purposes of the Act or is otherwise in the national interest of the United States.

Sec. 8. Consistent with section 110(d)(4) of the Act, I determine that a partial waiver of the Act with respect to Eritrea, Russia, and Syria to allow assistance described in section 110(d)(1)(A)(ii) of the Act for educational and cultural exchange programs would promote the purposes of the Act or is otherwise in the national interest of the United States.

Sec. 9. Consistent with section 110(d)(4) of the Act, I determine that the provision of all programs, projects, and activities described in section 110(d)(1)(A)(i) of the Act to the governments of Belarus, Belize, Burundi, the Central African Republic, China, Comoros, Republic of the Congo, Guinea, Guinea-Bissau, Mali, Mauritania, Turkmenistan, and Uzbekistan would promote the purposes of the Act or is otherwise in the national interest of the United States.

Sec. 10. Consistent with section 110(d)(4) of the Act, I determine that providing the assistance described in section 110(d)(1)(B) of the Act to Belarus, Belize, Burundi, the Central African Republic, China, Comoros, DRC, Republic of the Congo, Equatorial Guinea, Eritrea, Guinea, Guinea-Bissau, Mali, Mauritania, South Sudan, Sudan, Syria, Turkmenistan, Uzbekistan, and Venezuela would promote the purposes of the Act or is otherwise in the national interest of the United States.

Sec. 11. You are authorized and directed to submit this determination, the certification required by section 110(e) of the Act, and the Department of State's Memorandum of Justification, on which I have relied, to the Congress, and to publish the determination in the Federal Register.

THE WHITE HOUSE,

Washington, September 30, 2017

[FR Doc. 2017-23609

Filed 10-26-17; 11:15 am]

Billing code 4710-10-P